DEPARTMENT OF HEALTH AND HUMAN SERVICES

Office of the Secretary

[Document Identifier: HHS-OS-19226-60D]

Agency Information Collection Activities; Proposed Collection; Public Comment Request

AGENCY: Office of the Secretary, HHS.

ACTION: Notice.

SUMMARY: In compliance with section 3506(c)(2)(A) of the Paperwork Reduction Act of 1995, the Office of the Secretary (OS), Department of Health and Human Services, announces plans to submit an Information Collection Request (ICR), described below, to the Office of Management and Budget (OMB). The ICR is for extending the use of the approved information collection assigned OMB control number 0990-0275, which expires on October 31, 2013. Prior to submitting that ICR to OMB, OS seeks comments from the public regarding the burden estimate, below, or any other aspect of the ICR.

DATES: Comments on the ICR must be received on or before June 10, 2013.

ADDRESSES: Submit your comments to Information.CollectionClearance@hhs.gov or by calling (202) 690-6162.

FOR FURTHER INFORMATION CONTACT: Information Collection Clearance staff, Information. CollectionClearance@hhs.gov or (202) 690-6162.

SUPPLEMENTARY INFORMATION: When submitting comments or requesting information, please include the document identifier HHS-OS-19226-60D for reference.

Information Collection Request Title: Performance Data System (PDS).

OMB No.: 0990-0275.

Abstract: This request for clearance is to extend data collection activities by three (3) years for a currently approved collection using the OMB-approved Performance Data System (PDS), the tool used by Office of Minority Health (OMH) to collect program management and performance data for all OMH-funded projects. Grantee data collection via the Uniform Data Set (UDS) (original data collection system) was first approved by OMB on June 7, 2004 (OMB No. 0990-275). OMB approval was also received for modifications to the UDS to accommodate grant programs that were not required to use the UDS at the time the system was developed (August 23, 2007), which upgraded the data collection tool from the UDS to the PDS (August 31, 2010). Clearance is due to expire on October 31, 2013.

Need and Proposed Use of the Information: The clearance is also to continue data collection using the PDS, enhancing the system to improve functionality and to alter questions to improve data collection completeness and quality. The functionality and question improvements are intended to improve OMH's ability to comply with Federal reporting requirements and monitor and evaluate performance by enabling the efficient collection of more performance-oriented data which are tied to OMH-wide performance reporting needs. The ability to monitor and evaluate performance in this manner, and to work towards continuous program improvement are basic functions that OMH must be able to accomplish in order to carry out its mandate with the most effective and appropriate use of resources.

Likely Respondents: Respondents for this data collection include the project directors leading OMH-funded projects and/or the date entry persons assigned for each OMH-funded project. Affected public includes not-for-profit institutions and State, Local, or Tribal Governments.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

Total Estimated Annualized Burden—Hours
| Type of respondent | Form name | Number of respondents | Number of responses per respondent | Average burden per response (in hours) | Total burden hours
PDS Burden | OMH Grantee | PDS | 100 | 4 | 1.5 | 600

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Keith A. Tucker,
Information Collection Clearance Officer.

[FR Doc. 2013-08397 Filed 4-9-13; 8:45 am]

BILLING CODE 4150-33-P